DEPARTMENT OF THE TREASURY

Internal Revenue Service

[REG-116608-97]

Proposed Collection; Comment Request for Regulation Project; Correction

AGENCY: Internal Revenue Service (IRS), Treasury.

ACTION: Correction to notice and request for comments.

SUMMARY: This document contains corrections to a notice and request for comments, which was published in the Federal Register on Monday, June 21, 2004 (69 FR 34421). This notice relates to the Department of the Treasury's invitation to the general public to submit public comments on proposed and/or continuing information collections.

FOR FURTHER INFORMATION CONTACT: Allan Hopkins, (202) 622-6665 (not a toll-free number).

SUPPLEMENTARY INFORMATION:

Background

The notice and request for comments that is the subject of these corrections is required by the Paperwork Reduction Act of 1995, Public Law 104-13 (44 U.S.C. 3506(c)(2)(A)).

Need for Correction

As published, the comment request for REG-116608-97 contains errors which may prove to be misleading and are in need of clarification.

Correction of Publication

Accordingly, the publication of the comment request for REG-116608-97, which was the subject of FR Doc. 04-13958, is corrected as follows:

On page 34421, column 3, under the caption SUPPLEMENTARY INFORMATION:, following the paragraph “Affected Public:” the language

“Estimated Number of Respondents: 1.

Estimated Time Per Respondent: 1.

Estimated Total Annual Hours: 1.” is removed and the language

“The burden for the reporting requirement in this regulation is reflected in the burden of Form 8862, Information to Claim Earned Income Credit After Disallowance.” is added in its place.

Cynthia E. Grigsby,
Acting Chief, Publications and Regulations Branch, Legal Processing Division, Associate Chief Counsel (Procedures and Administration).

[FR Doc. 04-16964 Filed 7-23-04; 8:45 am]

BILLING CODE 4830-01-P